DEPARTMENT OF TRANSPORTATION

Federal Aviation Administration

14 CFR Part 39

[Docket No. 83-ANE-14-AD]

RIN 2120-AA64

Airworthiness Directives; Hartzell Propeller Inc. (formerly TRW Hartzell Propeller) Model HC-B3TN-2, HC-B3TN-3, HC-B3TN-5, HC-B4TN-3, HC-B4TN-5, HC-B4MN-5, and HC-B5MP-3 Turbopropellers

AGENCY: Federal Aviation Administration (FAA), DOT.

ACTION: Notice of proposed rulemaking (NPRM).

SUMMARY: The FAA proposes to revise an existing airworthiness directive (AD) for Hartzell Propeller Inc. (formerly TRW Hartzell Propeller) models HC-B3TN-2, HC-B3TN-3, HC-B3TN-5, HC-B4TN-3, HC-B4TN-5, HC-B4MN-5, and HC-B5MP-3 turbopropellers. That AD currently requires, before further flight, that all new propellers being installed and all serviceable propellers being reinstalled, are attached using part number (P/N) B-3339 bolts and P/N A-2048-2 washers, and that the bolts are properly torqued. That AD also currently requires a one-time torque-check of P/N A-2047 bolts that are already installed through propellers and replacement of those bolts if necessary, with P/N B-3339 bolts and P/N A-2048-2 washers. This proposed AD would require the same actions. This proposed AD results from the need to make nonsubstantive wording changes and additions to clarify that terminating action is achieved by attaching propellers with P/N B-3339 bolts and P/N A-2048-2 washers to the engine flange, as instructed in the compliance section of this AD. This proposed AD does not require an additional one-time torque-check of P/N A-2047 bolts. Also, this proposed AD does not apply to propellers installed using P/N B-3339 bolts and P/N A-2048-2 washers. We are proposing this AD to preclude propeller attaching bolt failures or improperly secured propellers, which could lead to separation of the propeller from the airplane.

DATES: We must receive any comments on this proposed AD by December 20, 2004.

ADDRESSES: Use one of the following addresses to submit comments on this proposed AD:

• By mail: Federal Aviation Administration (FAA), New England Region, Office of the Regional Counsel, Attention: Rules Docket No. 83-ANE-14-AD, 12 New England Executive Park, Burlington, MA 01803-5299.

• By fax: (781) 238-7055.

• By e-mail: 9-ane-adcomment@faa.gov.

You can get the service information identified in this proposed AD from Hartzell Propeller Inc. Technical Publications Department, One Propeller Place, Piqua, OH 45356; telephone (937) 778-4200; fax (937) 778-4391.

You may examine the AD docket at the FAA, New England Region, Office of the Regional Counsel, 12 New England Executive Park, Burlington, MA.

FOR FURTHER INFORMATION CONTACT: Melissa T. Bradley, Aerospace Engineer, Chicago Aircraft Certification Office, FAA, Small Airplane Directorate, 2300 East Devon Avenue, Des Plaines, IL 60018; telephone: (847) 294-8110; fax: (847) 294-7834.

SUPPLEMENTARY INFORMATION:

Comments Invited

We invite you to submit any written relevant data, views, or arguments regarding this proposal. Send your comments to an address listed under ADDRESSES. Include “AD Docket No. 83-ANE-14-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You can get more information about plain language at http://www.faa.gov/language and http://www.plainlanguage.gov.

Examining the AD Docket

You may examine the AD Docket (including any comments and service information), by appointment, between 8 a.m. and 4:30 p.m., Monday through Friday, except Federal holidays. See ADDRESSES for the location.

Discussion

Since we published the existing AD 83-08-01R1 (Amendment 39-4633, 48 FR 17576, April 25, 1983), numerous inquiries from the FAA field and industry have been presented to the Chicago Aircraft Certification Office (ACO) regarding replacement of propeller attaching bolts. On July 10, 1992, that office distributed a letter through the Flight Standards District Office that stated the following:

• The intent of AD 83-08-01R1 is not to require replacement or imply life limits of bolts P/N B-3339 and washers P/N A-2048-2, when a propeller is reinstalled, removed, or replaced.

• Bolt replacement at time of propeller installation is only required when a different part number bolt was previously installed.

• If the current FAA-approved bolt P/N B-3339 can pass inspection and meet required torque limit, the bolt is reusable.

• Installing bolts P/N B-3339 is terminating action for AD 83-080-01R1.

FAA's Actions and Requirements Since the ACO Letter Was Issued

Despite that letter distribution, we are still receiving inquiries on the intent of AD 83-08-01R1. This proposed AD would revise AD 83-08-01R1 by making nonsubstantive wording changes and additions to clarify that replacement of the previous P/N bolts, P/N A-2047, and related washers, with P/N B-3339 bolts and P/N A-2048-2 washers, must be done when new propellers are being installed and when serviceable propellers are being reinstalled. Doing these actions is considered terminating action to the AD. This proposed AD revision is being issued to preclude propeller attaching bolt failures or improperly secured propellers, which could lead to separation of the propeller from the airplane.

Costs of Compliance

There are about 17,000 Hartzell Propeller Inc. models HC-B3TN-2, HC-B3TN-3, HC-B3TN-5, HC-B4TN-3, HC-B4TN-5, HC-B4MN-5, and HC-B5MP-3 turbopropellers of the affected design in the worldwide fleet. We estimate that 11,900 turbopropellers installed on airplanes of U.S. registry would be affected by this proposed AD. We also estimate that all of these propellers likely would have upgraded to the P/N B-3339 bolts and P/N A-2048-2 washers since issuance of the original AD. The average labor rate is $65 per work hour. Bolt replacement would require about 1.5 work hours. Required parts would cost approximately $260 per propeller. Based on these figures, we estimate the cost of the proposed AD to replace the bolts for one propeller to be $357.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 83-ANE-14-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. Section 39.13 is amended by removing Amendment 39-4633 (48 FR 17576, April 25, 1983) and by adding the following new airworthiness directive (AD), to read as follows:

Hartzell Propeller Inc. (formerly TRW Hartzell Propeller): Docket No. 83-ANE-14-AD. Revises AD 83-08-01R1, Amendment 39-4633.

Applicability: This AD is applicable to Hartzell Propeller Inc. (formerly TRW Hartzell Propeller) models HC-B3TN-2, HC-B3TN-3, HC-B3TN-5, HC-B4TN-3, HC-B4TN-5, HC-B4MN-5, and HC-B5MP-3 turbopropellers. The HC-B( )TN-2, HC-B( )TN-3, and HC-B( )MP-3 propellers are installed on Pratt & Whitney Canada Model PT6A-( ) series engines. The HC-B( )TN-5 and HC-B( )MN-5 series propellers are installed on Honeywell International Inc., (formerly AlliedSignal Inc., Garrett Turbine Engine Company, and AIResearch Manufacturing Company of Arizona) TPE-331-( ) series engines.

Note 1: This AD applies to each propeller identified in the preceding applicability provision, regardless of whether it has been modified, altered, or repaired in the area subject to the requirements of this AD. For propellers that have been modified, altered, or repaired so that the performance of the requirements of this AD are affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required as indicated, unless already done.

To preclude propeller attaching bolt failures or improperly secured propellers, which could lead to separation of the propeller from the airplane, do the following:

(a) Install all new propellers and serviceable propellers that are being reinstalled, as follows, before further flight:

(1) Install the propeller oil seal to the engine flange after ensuring that the engine and propeller flanges are clean.

(2) Carefully install propeller on the engine flange ensuring that complete and true contact is established.

(3) Apply MIL-T-5544 Petrolated Graphite or Hartzell Lubricant part number (P/N) A3338 to threads of eight P/N B-3339 attaching bolts (and remainder of bolt if desired) and to flat surfaces of eight P/N A-2048-2 washers.

(4) Install the eight P/N B-3339 attaching bolts and eight P/N A-2048-2 washers that were prepared in paragraph (a)(3) of this AD, through the engine flange and into the propeller flange.

(5) Torque all attaching bolts with a torque wrench and an appropriate adapter, to 40 ft.-lbs., and then to 80 ft.-lbs. Following sequence “A” (shown below). Final torque all attaching bolts using sequence “B” (shown below) to 100 to 105 ft.-lbs. Safety wire all attaching bolts in an FAA-approved manner.

BILLING CODE 4910-13-P

(6) Once the propeller is installed with P/N B-3339 bolts and P/N A-2048-2 washers, this AD no longer applies.

(b) Within the next 300 hours time-in-service after the effective date of this AD, do the following on all applicable turbopropellers presently installed with P/N A-2047 attaching bolts:

(1) Check the torque, with a torque wrench and an appropriate adapter, of all eight propeller attaching bolts (with washers installed). Torque should be 100 to 125 ft.-lbs., with dry threads. (Caution: Do not use any lubricant with the P/N A-2047 bolts. Safety wire all bolts in an FAA-approved manner.)

(2) If the torque of any one of the bolts is found to be less than 100 ft.-lbs., remove all eight bolts and washers and replace with P/N B-3339 bolts and P/N A-2048-2 washers using paragraphs (a)(1) through (a)(5) of this AD.

(3) A P/N A-2047 bolt has the letter “H” stamped inside a triangle on the bolt. A P/N B-3339 bolt has the P/N stamped inside the cupped head.

(4) If the torque of each P/N A-2047 bolt is in compliance, then at next propeller disassembly, remove all eight bolts and washers and replace with P/N B-3339 bolts and P/N A-2048-2 washers. Use paragraphs (a)(1) through (a)(5) of this AD to do the replacements.

(5) Hartzell Service Instructions No. 140A, Revision 8, dated April 6, 2004, is the latest service information that pertains to the subject of this AD.

Alternative Methods of Compliance

(c) An alternative method of compliance or adjustment of the compliance time that provides an acceptable level of safety may be used if approved by the Manager, Chicago Aircraft Certification Office. Operators must submit their requests through an appropriate FAA Principal Maintenance Inspector, who may add comments and then send it to the Manager, Chicago Aircraft Certification Office.

Note 2: Information concerning the existence of approved alternative methods of compliance with this airworthiness directive, if any, may be obtained from the Chicago Aircraft Certification Office.

Special Flight Permits

(d) Special flight permits may be issued in accordance with §§ 21.197 and 21.199 of the Federal Aviation Regulations (14 CFR 21.197 and 21.199) to operate the airplane to a location where the requirements of this AD can be done.

Issued in Burlington, Massachusetts, on October 12, 2004.
Jay J. Pardee,
Manager, Engine and Propeller Directorate, Aircraft Certification Service.

[FR Doc. 04-23366 Filed 10-19-04; 8:45 am]

BILLING CODE 4910-13-C